DEPARTMENT OF TRANSPORTATION

Federal Aviation Administration

14 CFR Part 39

[Docket No. FAA-2010-1113; Directorate Identifier 2010-NM-121-AD; Amendment 39-16603; AD 2011-04-03]

RIN 2120-AA64

Airworthiness Directives; Bombardier, Inc. Model CL-600-2B19 (Regional Jet Series 100 and 440) Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

During flight-testing of a wing anti-ice piccolo tube containing a deliberate small breach, it was determined that the wing leading edge thermal switches Part Number (P/N) 601R59320-1 were not detecting the consequent bleed leak at the design threshold. As a result, Airworthiness Limitation (AWL) tasks, consisting of a functional check of the wing leading edge thermal switches (P/N 601R59320-1) and an inspection of the wing anti-ice duct piccolo tubes on aeroplanes with these switches installed, have been introduced. These tasks will limit exposure to dormant failure of the wing leading edge thermal switches in the event of piccolo tube failure, which could potentially compromise the structural integrity of the wing leading edge and the effectiveness of the wing anti-ice system.

* * * * *

The unsafe condition is loss of control of the airplane. We are issuing this AD to require actions to correct the unsafe condition on these products.

DATES: This AD becomes effective March 22, 2011.

The Director of the Federal Register approved the incorporation by reference of certain publications listed in this AD as of March 22, 2011.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Cesar Gomez, Aerospace Engineer, Airframe and Mechanical Systems Branch, ANE-171, FAA, New York Aircraft Certification Office (ACO), 1600 Stewart Avenue, Suite 410, Westbury, New York 11590; telephone (516) 228-7318; fax (516) 794-5531.

SUPPLEMENTARY INFORMATION:

Discussion

We issued a notice of proposed rulemaking (NPRM) to amend 14 CFR part 39 to include an AD that would apply to the specified products. That NPRM was published in the Federal Register on November 15, 2010 (75 FR 69609). That NPRM proposed to correct an unsafe condition for the specified products. The MCAI states:

During flight-testing of a wing anti-ice piccolo tube containing a deliberate small breach, it was determined that the wing leading edge thermal switches Part Number (P/N) 601R59320-1 were not detecting the consequent bleed leak at the design threshold. As a result, Airworthiness Limitation (AWL) tasks, consisting of a functional check of the wing leading edge thermal switches (P/N 601R59320-1) and an inspection of the wing anti-ice duct piccolo tubes on aeroplanes with these switches installed, have been introduced. These tasks will limit exposure to dormant failure of the wing leading edge thermal switches in the event of piccolo tube failure, which could potentially compromise the structural integrity of the wing leading edge and the effectiveness of the wing anti-ice system.

This directive mandates revision of the approved maintenance schedule to include the above referenced tasks, including phase-in schedules that supersede the phase-in schedules specified in the AWL tasks.

Note: Thermal switches, P/N 601R59320-1, were installed in production on aircraft Serial Numbers (S/N) 7213 and subsequent. Service Bulletin 601R-30-022 covered in-service installation of these switches on aircraft S/Ns 7003 through 7212.

The unsafe condition is loss of control of the airplane. You may obtain further information by examining the MCAI in the AD docket.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a Note within the AD.

Costs of Compliance

We estimate that this AD will affect 628 products of U.S. registry. We also estimate that it will take about 1 work-hour per product to comply with the basic requirements of this AD. The average labor rate is $85 per work-hour. Based on these figures, we estimate the cost of this AD to the U.S. operators to be $53,380, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2011-04-03 Bombardier, Inc.: Amendment 39-16603. Docket No. FAA-2010-1113; Directorate Identifier 2010-NM-121-AD.

Effective Date

(a) This airworthiness directive (AD) becomes effective March 22, 2011.

Affected ADs

(b) None.

Applicability

(c) This AD applies to Bombardier, Inc. Model CL-600-2B19 (Regional Jet Series 100 and 440) airplanes; certificated in any category; serial numbers 7003 and subsequent.

Subject

(d) Air Transport Association (ATA) of America Code 57: Wings.

Reason

(e) The mandatory continuing airworthiness information (MCAI) states:

During flight-testing of a wing anti-ice piccolo tube containing a deliberate small breach, it was determined that the wing leading edge thermal switches Part Number (P/N) 601R59320-1 were not detecting the consequent bleed leak at the design threshold. As a result, Airworthiness Limitation (AWL) tasks, consisting of a functional check of the wing leading edge thermal switches (P/N 601R59320-1) and an inspection of the wing anti-ice duct piccolo tubes on aeroplanes with these switches installed, have been introduced. These tasks will limit exposure to dormant failure of the wing leading edge thermal switches in the event of piccolo tube failure, which could potentially compromise the structural integrity of the wing leading edge and the effectiveness of the wing anti-ice system.

* * * * *

The unsafe condition is loss of control of the airplane.

Compliance

(f) You are responsible for having the actions required by this AD performed within the compliance times specified, unless the actions have already been done.

Actions

(g) Within 30 days after the effective date of this AD, revise the Airworthiness Limitations section (ALS) of the maintenance program by incorporating Task C36-20-133-03 specified in Bombardier Temporary Revision (TR) 2A-50, dated November 17, 2009; and Task C30-10-133-01 specified in Bombardier TR 2A-49, dated November 17, 2009; into Appendix A, “Certification Maintenance Requirements,” of Part 2 of the Bombardier CL-600-2B19 Maintenance Requirements Manual (MRM). For these tasks, the initial compliance time starts at the applicable time specified in paragraphs (g)(1) and (g)(2) of this AD. Thereafter, except as provided by paragraph (h) of this AD, no alternative functional check of the thermal switch or detailed visual inspection of the piccolo tube may be approved.

Note 1: The actions required by paragraph (g) of this AD may be done by inserting a copy of Bombardier TR 2A-49 and TR 2A-50, both dated November 17, 2009, into the Appendix A of Part 2 of the Bombardier CL-600-2B19 MRM. When these TRs have been included in Appendix A of Part 2 of the general revisions of the MRM, the general revisions may be inserted in the MRM, provided that the relevant information in the general revision is identical to that in Bombardier TR 2A-49 and TR 2A-50, both dated November 17, 2009.

(1) For Task C36-20-133-03, the initial compliance time is before the accumulation of 15,000 total flight hours or within 7 months after the effective date of this AD, whichever occurs later.

(2) For Task C30-10-133-01, the initial compliance time is before the accumulation of 15,000 total flight hours on the piccolo tube or within 7 months after the effective date of this AD, whichever occurs later.

FAA AD Differences

Note 2: This AD differs from the MCAI and/or service information as follows: No differences.

Other FAA AD Provisions

(h) The following provisions also apply to this AD:

(1) Alternative Methods of Compliance (AMOCs): The Manager, New York Aircraft Certification Office (ACO), ANE-170, FAA, has the authority to approve AMOCs for this AD, if requested using the procedures found in 14 CFR 39.19. Send information to ATTN: Program Manager, Continuing Operational Safety, FAA, New York ACO, 1600 Stewart Avenue, Suite 410, Westbury, New York, 11590; telephone 516-228-7300; fax 516-794-5531. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave., SW., Washington, DC 20591, Attn: Information Collection Clearance Officer, AES-200.

Related Information

(i) Refer to MCAI Canadian Airworthiness Directive CF-2010-12, dated May 26, 2010; and Bombardier TR 2A-49, dated November 17, 2009, and Bombardier TR 2A-50, dated November 17, 2009, to Appendix A, “Certification Maintenance Requirements,” of Part 2 of the Bombardier CL-600-2B19 MRM; for related information.

Material Incorporated by Reference

(j) You must use Bombardier Temporary Revision 2A-49, dated November 17, 2009; and Bombardier Temporary Revision 2A-50, dated November 17, 2009; to Appendix A, “Certification Maintenance Requirements,” of Part 2 of the Bombardier CL-600-2B19 Maintenance Requirements Manual; as applicable; to do the actions required by this AD, unless the AD specifies otherwise.

(1) The Director of the Federal Register approved the incorporation by reference of this service information under 5 U.S.C. 552(a) and 1 CFR part 51.

(2) For service information identified in this AD, contact Bombardier, Inc., 400 Côte-Vertu Road West, Dorval, Québec H4S 1Y9, Canada; telephone 514-855-5000; fax 514-855-7401; e-mail thd.crj@aero.bombardier.com; Internet http://www.bombardier.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on February 3, 2011.
Ali Bahrami,
Manager, Transport Airplane Directorate, Aircraft Certification Service.

[FR Doc. 2011-3041 Filed 2-14-11; 8:45 am]

BILLING CODE 4910-13-P